DEPARTMENT OF TRANSPORTATION

Federal Aviation Administration

[Summary Notice No. PE-2004-63]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on August 3, 2004.
Anthony F. Fazio
Director, Office of Rulemaking.

Dispositions of Petitions

Docket No.: FAA-2002-11933.

Petitioner: ExpressJet Airlines d.b.a. Continental Express Airlines.

Section of 14 CFR Affected: 14 CFR 121.434(c)(1)(ii).

Description of Relief Sought/Disposition: To permit ExpressJet Airlines, d.b.a. Continental Express Airlines to substitute a qualified and authorized check airman for a Federal Aviation Administration inspector to observe a qualifying pilot in command (PIC) perform prescribed duties during at least one flight leg that includes a takeoff and a landing when that PIC is completing initial or upgrade training as specified in § 121.424.

Grant, 7/27/2004, Exemption No. 6798B.

Docket No.: FAA-2004-18649.

Petitioner: Tower Aviation Services, LLC.

Section of 14 CFR Affected: 14 CFR 135.143(c)(2).

Description of Relief Sought/Disposition: To permit Tower Aviation Services, LLC to operate certain aircraft under part 135 without a TSO-C112 (Mode S) transponder installed on those aircraft.

Grant, 7/23/2004, Exemption No. 8364.

Docket No.: FAA-2000-8462.

Petitioner: National Warplane Museum, d.b.a. Wings of Eagles.

Section of 14 CFR Affected: 14 CFR 91.315, 119.5(g), and 119.21(a).

Description of Relief Sought/Disposition: To permit the National Warplane Museum, d.b.a. Wings of Eagles (Wings) to carry passengers on local flights for compensation or hire in its limited category Boeing B-17 aircraft, Serial No. 4483563, in support of the Wings' fundraising efforts, subject to certain conditions and limitations.

Grant, 7/23/2004, Exemption No. 8363.

Docket No.: FAA-2003-15115.

Petitioner: Martinaire, Inc.

Section of 14 CFR Affected: 14 CFR 135.105(c)(1).

Description of Relief Sought/Disposition: To permit Martinaire, Inc., to carry passengers, specifically certified airmen employed by other airlines, on board their aircraft with a 2-axis autopilot installed and operating.

Denial, 7/22/2004, Exemption No. 8362.

Docket No.: FAA-2003-16836.

Petitioner: John R. Deakin.

Section of 14 CFR Affected: 14 CFR 91.109(a).

Description of Relief Sought/Disposition: To permit Mr. John R. Deakin to conduct flight instruction to meet the flight review and recent experience requirements in Bonanza, Debonair, Baron, and Travel Air aircraft equipped with a single functioning throwover control wheel in place of fixed dual controls, subject to certain conditions and limitations.

Grant, 7/22/2004, Exemption No. 8361.

Docket No.: FAA-2003-15795.

Petitioner: Mr. Terry Lee Claussen.

Section of 14 CFR Affected: 14 CFR 67.113(a).

Description of Relief Sought/Disposition: To permit Mr. Terry Lee Claussen to obtain a first-class airman medical certificate while he requires insulin treatment for the control of diabetes mellitus.

Denial, 7/22/2004, Exemption No. 8360.

Docket No.: FAA-2003-16714.

Petitioner: Ward Air, Inc.

Section of 14 CFR Affected: 14 CFR 135.203(a)(1).

Description of Relief Sought/Disposition: To permit Ward Air, Inc., an amendment to Exemption No. 8295 that would change the airspace defined by latitude and longitude listed in condition and limitation No. 1.

Grant, 7/14/2004, Exemption No. 8295A.

Docket No.: FAA-2000-8425.

Petitioner: Aero Sports Connection, Inc.

Section of 14 CFR Affected: 14 CFR 103.1(a) and (e).

Description of Relief Sought/Disposition: To permit individuals authorized by Aero Sports Connection, Inc., to give instruction in two-place powered ultralight vehicles that have a maximum empty weight of 496 pounds, have a maximum fuel capacity of 10 U.S. gallons, are not capable of more than 75 knots calibrated airspeed at full power in level flight, and have a power-off stall speed that does not exceed 35 knots calibrated airspeed.

Grant, 7/27/2004, Exemption No. 6080G.

Docket No.: FAA-2001-9976.

Petitioner: United States Ultralight Association, Inc.

Section of 14 CFR Affected: 14 CFR 103.1(a) and (e).

Description of Relief Sought/Disposition: To permit individuals authorized by the United States Ultralight Association, Inc., to give instruction in two-place powered ultralight vehicles that have a maximum empty weight of no more than 496 pounds, have a maximum fuel capacity of not more than 10 U.S. gallons, are not capable of more than 75 knots calibrated airspeed at full power in level flight, and have a power-off stall speed that does not exceed 35 knots calibrated airspeed, subject to specific conditions and limitations.

Grant, 7/27/2004, Exemption No. 4274L.

Docket No.: FAA-2001-8939.

Petitioner: Experimental Aircraft Association, Inc.

Section of 14 CFR Affected: 14 CFR 103.1(a) and (e).

Description of Relief Sought/Disposition: To permit individuals authorized by the Experimental Aviation Association, Inc., to give instruction in powered ultralights that have a maximum empty weight of not more than 496 pounds, have a maximum fuel capacity of not more than 10 U.S. gallons, are not capable of more than 75 knots calibrated airspeed at full power in level flight, and have a power-off stall speed that does not exceed 35 knots calibrated airspeed.

Grant, 7/27/2004, Exemption No. 3784M.

Docket No.: FAA-2004-18599.

Petitioner: Hawk Eye Aerial.

Section of 14 CFR Affected: 14 CFR 135.143(c)(2).

Description of Relief Sought/Disposition: To permit Hawk Eye Aerial to operate certain aircraft under part 135 without a TSO-C112 (Mode S) transponder installed on those aircraft.

Grant, 7/23/2004, Exemption No. 8365.

[FR Doc. 04-18210 Filed 8-9-04; 8:45 am]

BILLING CODE 4910-13-P